DEPARTMENT OF THE INTERIOR

Bureau of Land Management

[LLWYL03000 L51010000.FX0000 LVRWK09K1030; WYW-167155]

Notice of Availability of the Draft Resource Management Plan Amendment, Draft Environmental Impact Statement, and Segregation of Public Lands for the Proposed Chokecherry and Sierra Madre Wind Farm Project; Wyoming

AGENCY: Bureau of Land Management, Interior.

ACTION: Notice of Availability.

SUMMARY: In accordance with the National Environmental Policy Act of 1969, as amended (NEPA), and the Federal Land Policy and Management Act of 1976, as amended, the Bureau of Land Management (BLM) has prepared a Draft Resource Management Plan (RMP) Amendment/Draft Environmental Impact Statement (EIS) for the Proposed Chokecherry and Sierra Madre (CCSM) Wind Farm Project and by this notice is (1) Opening the comment period; and (2) Segregating 107,175 acres of public lands located within the CCMS Right-of-Way (ROW) application area from appropriation under the public land laws including the 1872 Mining Law, but not the Mineral Leasing or Mineral Material Acts, for a period of 2 years from the date of publication of this notice.

DATES: To ensure that comments will be considered, the BLM must receive written comments on the Draft RMP Amendment/Draft EIS within 90 days following the date the Environmental Protection Agency publishes its Notice of Availability in the Federal Register. The BLM will announce future meetings or hearings and any other public involvement activities at least 15 days in advance through public notices, media releases, and/or mailings.

ADDRESSES: You may submit comments related to the Chokecherry and Sierra Madre Wind Farm Project by any of the following methods:

• E-mail: WYMail_PCW_Windfarm@blm.gov;

• Fax: 307-328-4224; or

• Mail/Hand Delivery: Bureau of Land Management, Chokecherry and Sierra Madre Wind Farm Project, Attention: Pamela Murdock, Project Manager, P.O. Box 2407, 1300 N. Third Street, Rawlins, Wyoming 82301.

Copies of the Draft RMP Amendment/Draft EIS are available for review in the BLM Rawlins Field Office at the above address or at the following Web site: http://www.blm.gov/pgdata/content/wy/en/info/NEPA/documents/rfo/Chokecherry.html.

The Draft RMP Amendment/Draft EIS is also available for review during normal business hours at the following locations:

• Bureau of Land Management Wyoming State Office, 5353 Yellowstone Road, Cheyenne, Wyoming.

• Bureau of Land Management High Desert District Office, 280 Highway 191 N., Rocks Springs, Wyoming.

FOR FURTHER INFORMATION CONTACT: Pamela Murdock, Project Manager; 307-328-4215; P.O. Box 2407, 1300 N. Third Street, Rawlins, Wyoming 82301; e-mail: WYMail_PCW_Windfarm@blm.gov. Persons who use a telecommunications device for the deaf (TDD) may call the Federal Information Relay Service (FIRS) at 1-800-877-8339 to contact the above individual during normal business hours. The FIRS is available 24 hours a day, 7 days a week, to leave a message or questions for the above individual. You will receive a reply during normal business hours.

SUPPLEMENTARY INFORMATION: The BLM proposes to amend the 2008 Rawlins RMP for visual resources management (VRM) class designations. The Power Company of Wyoming, LLC (PCW) proposes to construct and operate a wind energy project south of Rawlins in Carbon County, Wyoming. The proposed project consists of 2 areas located approximately 9 miles apart within the Wind Site Testing and Monitoring Application Area—the Chokecherry site and the Sierra Madre site (CCSM)—totaling 222,689 acres of Federal, private, and State lands. Only a portion of the total land area would be used for, or disturbed by, the project. The project proposal includes 1,000 wind turbine generators (WTG) and associated infrastructure, each capable of producing 1.5 to 3 megawatts (MW) with a total nameplate capacity of 1,500 to 3,000 MW of electrical power.

Public lands within the CCSM project area would be segregated under the authority contained in 43 CFR 2091.3-1(e) and 43 CFR 2804.25(e) for a period of 2 years, in order to process the ROW application filed on the described lands; this 2-year segregation period will commence on July 22, 2011. It has been determined that this segregation is necessary for the orderly administration of the public lands.

The temporary segregation period will terminate and the lands will automatically re-open to appropriation under the public land laws, including the mining laws, if one of the following events occurs: (1) Upon the BLM's issuance of a decision regarding whether to issue a ROW authorization for the wind energy generation proposal; (2) Upon publication in the Federal Register of a notice of termination of the segregation; or (3) Without further administrative action at the end of the segregation provided for in the Federal Register notice initiating the segregation, whichever occurs first. Any segregation made under this authority would be effective only for a period of up to 2 years, without the possibility of extension.

In accordance with 43 CFR 2091.3-1(e) and 2804.25(e), the following described public lands within the proposed project area are hereby segregated for a period of up to 2 years, subject to valid existing rights, from all forms of appropriation under the public land laws, including location and entry under the United States mining laws, but not from leasing under the mineral leasing laws or disposal under the mineral material laws:

Sixth Principal Meridian

T. 16 N., R. 87 W.,

Sec. 5, lots 4, 5, 6, 11, and 12, N½; SW¼, and SW¼; SW¼; sec. 6, lots 1 to 21, inclusive, and SE¼; sec. 7, lots 1 to 4, inclusive, lots 9 and 10, and NW¼ NE¼; sec. 18, lots 3, 4, and 9.

T. 16 N., R. 88 W.,

Sec. 1, lots 11 to 23, inclusive;

Sec. 2, lots 11 to 27, inclusive;

Sec. 3, SW¼SW¼ and tract 38 A, B, C;

Sec. 4, lots 11 to 22, inclusive, and S½;

Sec. 5, lots 11 to 22, inclusive, and S½;

Sec. 6, lots 14 to 28, inclusive, and SE¼;

Sec. 9;

Sec. 10, lots 1 and 2, NE¼NE¼, NW¼NW¼, S½N½, and S½;

Sec. 11, lots 1 to 6, inclusive, S½NW¼, and SW¼;

Sec. 12, lots 1 and 2.

T. 17 N., R. 87 W.,

Sec. 4, lots 1 to 4, inclusive, SW¼NE¼, S½NW¼, SW¼, and W½SE¼;

Sec. 5, lots 1 to 4, inclusive, S½N½, and S½;

Sec. 6, lots 1 to 7, inclusive, S½NE¼, SE¼NW¼, E½SW¼, and SE¼;

Sec. 7, lots 2 to 4, inclusive, NE¼, E½W½, NE¼SE¼, and S½SE¼;

Sec. 8;

Sec. 9, W½E½ and W½;

Sec. 17;

Sec. 18, lots 5 to 19, inclusive;

Sec. 19, lots 7 and 8;

Sec. 20, E½ and S½SW¼;

Sec. 29, NW¼ (less SE¼SE¼SE¼NW¼), NW¼SW¼, S½SW¼, and SE¼;

Sec. 31, lots 2, 3, and 4, NE¼NE¼, S½NE¼, SE¼NW¼, E½SW¼, and SE¼;

Sec. 32.

T. 17 N., R. 88 W.,

Sec. 1, lots 1 to 4, inclusive, S½N½, and N½S½;

Sec. 3, S½N½;

Sec. 4, lots 1 to 4, inclusive, S½N½, and S½;

Sec. 5, S½N½ and S½;

Sec. 6, lots 5 to 10, inclusive, S½NE¼, SE¼SW¼, N½SE¼, and SE¼SE¼;

Sec. 7, lots 1 to 4, inclusive, SW¼NE¼, E½W½, W½SE¼, and SE¼SE¼;

Sec. 8, N½, E½SW¼, and SE¼;

Secs. 9 and 10;

Sec. 11, W½NW¼;

Sec. 12, NE¼, E½NW¼, SW¼, W½SE¼, and SE¼SE¼;

Sec. 13, N½, N½S½, and SE¼SE¼;

Sec. 14, NW¼NE¼, S½NE¼, NW¼, and N½S½;

Sec. 15, NE¼ and N½SE¼;

Sec. 17;

Sec. 18, lots 1 to 4, inclusive, E½, and E½W½;

Sec. 19, lots 1 to 4, inclusive, E½, and E½W½;

Sec. 20, W½E½ and W½;

Sec. 28, W½;

Sec. 29;

Sec. 30, lots 1, 2, and 3, NE¼, E½NW¼, NE¼SW¼, N½SE¼, and SE¼SE¼;

Sec. 31, lots 1 to 4, inclusive, NE¼NE¼, S½NE¼, E½W½, and SE¼;

Sec. 32;

Sec. 33, NW¼ and S½;

Sec. 34, NE¼ and S½;

Sec. 36, E½SE¼.

T. 17 N., R. 89 W.,

Sec. 1, lots 5 to 17, inclusive;

Sec. 2, lots 3 to 14, inclusive;

Sec. 3, lots 5 to 9, inclusive, and S½SE¼;

Sec. 4, lots 3 to 18, inclusive;

Sec. 6, lots 8 to 23, inclusive;

Sec. 11, N½;

Sec. 12, lots 1 to 4, inclusive, and W½;

Sec. 13, lots 1 to 4 inclusive, and NW¼.

T. 18 N., R. 85 W.,

Sec. 18, lots 1 thru 4, inclusive, E½ and E½W½;

Sec. 20;

Sec. 30, lots 1 to 4, inclusive, E½ and E½W½.

T. 18 N., R. 86 W.,

Secs. 14 and 16;

Sec. 18, lots 1 to 4, inclusive, E½ and E½W½;

Secs. 20 and 22;

Sec. 24, lots 1 to 16, inclusive;

Secs. 26 and 28;

Sec. 30, lots 1 to 4, inclusive, E½ and E½W½.

T. 18 N., R. 87 W.,

Sec. 2, lots 1 to 4, inclusive, S½N½, and S½;

Sec. 4, lots 5 to 20, inclusive;

Sec. 6, lots 8 to 23 inclusive;

Secs. 8, 10, 12, 14, and 16;

Sec. 18, lots 5 to 20, inclusive;

Secs. 20, 22, 24, 26, and 28;

Sec. 30, lots 5 to 20, inclusive;

Sec. 31, lot 4, SE¼SW¼, and S½SE¼;

Sec. 32, SW¼SE¼;

Sec. 33, SW¼NE¼, S½NW¼, S½NW¼, and S½;

Sec. 34, N½, N½SW¼, and SE¼.

T. 18 N., R. 88 W.,

Sec. 2, lots 1 and 2, S½N½, and S½;

Sec. 4, lot 4, SW¼NW¼, and W½SW¼;

Sec. 8, NE¼, W½, NE¼SE¼, and S½SE¼;

Sec. 10, W½;

Secs. 12 and 14;

Sec. 18, lots 1 to 4, inclusive, E½, and E½W½;

Sec. 20;

Sec. 22, N½NE¼, SE¼NE¼, NE¼NW¼, and S½;

Sec. 26, E½, NW¼NW¼, S½NW¼, and SW¼;

Sec. 30, lots 1 to 4, inclusive, E½, and E½W½;

Sec. 32;

Sec. 34, N½ and SW¼;

Sec. 35, S½SE¼;

Sec. 36.

T. 18 N., R. 89 W.,

Sec. 10;

Sec. 12, lots 1 to 4, inclusive, and W½;

Secs. 14, 20, and 22;

Sec. 24, lots 1 to 4, inclusive, and W½;

Secs. 26 and 28;

Sec. 32, lots 1 to 12, inclusive, N½NE¼, and N½SE¼;

Sec. 34, lots 1 to 16, inclusive;

Sec. 35, S½SE¼.

T. 19 N., R. 85 W.,

Sec. 4, lots 1 to 4, inclusive, S½N½, and S½;

Sec. 6, lots 1 to 7, inclusive, S½NE¼, SE¼NW¼, E½SW¼, and SE¼;

Sec. 8;

Sec. 10, NW¼NE¼, S½NE¼, NW¼, and S½;

Sec. 18, lots 1 thru 4, inclusive, E½, and E½W½.

T. 19 N., R. 86 W.,

Sec. 2, lots 1 to 4, inclusive, S½N½, and S½;

Sec. 4, lots 5 to 20, inclusive;

Sec. 6, lots 8 to 23, inclusive;

Secs. 8, 10, and 12;

Sec. 14, W½E½, and W½;

Sec. 16;

Sec. 18, lots 1 to 4, inclusive, E½, and E½W½;

Secs. 20, 22, and 24.

T. 19 N., R. 87 W.,

Sec. 2, lots 1 to 4, inclusive, S½N½ and S½;

Sec. 4, lots 1 and 2, S½N½, and S½;

Sec. 6, lots 1 to 7, inclusive, S½NE¼, SE¼NW¼, E½SW¼, and SE¼;

Secs. 8, 10, and 12;

T. 19 N., R. 88 W.,

Sec. 12.

T. 20 N., R. 85 W.,

Sec. 4, lots 1 to 10, inclusive, S½S½;

Sec. 6, lots 1 to 3, inclusive, lots 8 to 16, inclusive, and S½SE¼;

Secs. 8, 10, 14, and 16;

Sec. 18, lots 5 to 12, inclusive, and E½;

Secs. 20, 22, 24, 26, and 28;

Sec. 30, lots 5 to 10, inclusive, E½, and E½SW¼;

Secs. 32 and 34.

T. 20 N., R. 86 W.,

Sec. 2, lots 1 to 4, inclusive, and S½;

Sec. 4, lots 1 to 4, inclusive, and S½;

Sec. 6, lots 1 to 6, inclusive, E½SW¼, and SE¼;

Secs. 8, 10, 12, 14, and 16;

Sec. 18, lots 1 to 4, inclusive, E½, and E½W½;

Secs. 20, 22, 24, 26, and 28;

Sec. 30, lots 1 to 4, inclusive, E½, and E½W½;

Secs. 32, 34, and 36.

T. 20 N., R. 87 W.,

Sec. 2, lots 1 to 4, inclusive, and SW¼;

Sec. 4, lots 5 to 11, inclusive;

Sec. 6, lots 1 to 6, inclusive, E½SW¼, and SE¼;

Secs. 8 and 10;

Sec. 12, lots 1 to 16, inclusive;

Sec. 14;

Sec. 18 lots 1 to 4, inclusive, and E½E½W½;

Secs. 20 and 22;

Sec. 24 lots 1 to 16, inclusive;

Sec. 26, E½, E½W½, NW¼NW¼, and SW¼SW¼;

Sec. 28;

Sec. 30, lots 1 to 4, inclusive, E½, and E½W½;

Secs. 32 and 34.

T. 20 N., R. 88 W.,

Secs. 12 and 24.

T. 21 N., R. 86 W.,

Sec. 24, S½ and S½N½;

Sec. 26;

Sec. 30, lots 1 to 4, inclusive, E½, and E½W½;

Secs. 32 and 34;

The areas described aggregate approximately 107,175 acres in Carbon County, Wyoming.

The BLM Rawlins Field Office has been designated as the lead Federal agency for the CCSM Draft RMP Amendment/Draft EIS. Cooperating agencies include the U.S. Forest Service, the State of Wyoming, the Saratoga-Encampment-Rawlins Conservation District, the Little Snake River Conservation District, Medicine Bow Conservation District, Carbon County, and the City of Rawlins.

Scoping took place from July 18, 2008, to September 23, 2008, and involved 4 public meetings held in Saratoga, Rawlins (2), and Baggs, Wyoming. Public and cooperating agency concerns include potential impacts to sensitive species and their habitats, cultural resources, visual resources, public access, project phasing, and reclamation. Through internal and external scoping, the BLM identified the following resources as issues of concern that are analyzed in detail: Avian species; fish and wildlife, including special status and threatened or endangered species; cultural resources; visual resources; grazing and rangelands; reclamation; water resources; air quality; public access; and recreation. For analysis purposes, the document has been arranged into 2 volumes dealing with the RMP Amendment decision and the CCSM project decision.

Volume I of the Draft RMP Amendment/Draft EIS describes and analyzes VRM planning alternatives for the public lands administered by the BLM Rawlins Field Office within the planning area. The proposed project is located in an area currently managed as VRM classes II and III. With the exception of VRM classes, wind energy development within and adjacent to the CCSM project area conforms to the Rawlins RMP. The Draft RMP Amendment/Draft EIS planning area includes and extends 30 miles beyond the CCSM project area boundary, comprising approximately 3.6 million acres in Carbon County in south central Wyoming. Within this area, the BLM administers approximately 1.3 million acres of public land surface and Federal mineral estate. The BLM administers an additional 100,000 acres of mineral estate under State and privately owned surface. The BLM decisions would apply only to public lands and to the Federal mineral estate administered by the BLM.

The BLM invites public comment on the proposed planning amendment. Comments may be sent to the BLM Rawlins Field Office at the address above. The RMP Amendment will concentrate on 8 specific issues identified through public scoping for the 2008 Rawlins RMP.

Issue 1: Energy Development—The planning amendment addresses energy resource decision (i.e., oil and gas, coal, solar, wind energy and transportation network) conflicts with the proposed VRM planning amendments.

Issue 2: Special Management Designations—The planning amendment addresses Special Designations/Management Areas decision conflicts with the proposed VRM planning amendment decisions. No Rawlins RMP decisions for the Sand Hills/JO Ranch Area of Critical Environmental Concern would change as a result of the proposed VRM planning amendment.

Issue 3: Resource Accessibility—The planning amendment addresses public accessibility and constraints of VRM Class designations in the checkerboard or other intermixed landownership patterns.

Issue 4: Fire Management Wildland-Urban Interface—New demands are being placed on public lands because of growth in and around some cities, towns, rural developments and subdivisions in the planning area. Wildland-urban interface decisions may be affected by VRM amendments.

Issue 5: Special Status Species Management—VRM class designations may influence maintenance or sustainability of special status species.

Issue 6: Water Quality—VRM class designations may influence maintenance or attainment of water quality standards.

Issue 7: Vegetation Management—Due to conflicting demands for consumptive and non-consumptive uses of the vegetation resources in the planning area, the amendment will address the influence of VRM class designations on non-consumptive and consumptive uses.

Issue 8: Recreation, Cultural Resources and Paleontological Resource Management—The planning area contains cultural and paleontological resources and their associated setting, as well as a variety of recreation opportunities. VRM amendments may influence these resources and opportunities.

Four planning alternatives were analyzed in detail:

1. Alternative 1: Continue existing management direction (the No Action Alternative);

2. Alternative 2: Provide for development and use opportunities while minimizing adverse impacts to visual resources;

3. Alternative 3: Provide for compatible development and use while maintaining focus on greater conservation of visual resources; and

4. Alternative 4: Provide for development opportunities while protecting visual resources (the BLM Preferred Alternative).

Volume II of the Draft RMP Amendment/Draft EIS addresses the direct, indirect, and cumulative environmental impacts of constructing and operating the CCSM wind generation facility (proposed action). Alternatives to the proposed action were developed in response to issues and concerns raised during the NEPA scoping period. All alternatives conform with the preferred planning alternative identified in Volume I. Volume II of the EIS analyzes the direct, indirect and cumulative project impacts to determine whether the application area is suitable for development of the proposed project or for an alternative development strategy. The impact analysis is based on resource-specific assumptions, estimated project disturbance, and appropriate project-specific stipulations. The decision the BLM will make as a result of the analysis is whether to authorize, and under what terms and conditions, the development, operation, maintenance, and reclamation of a wind farm on public lands.

The No Action Alternative would deny PCW's request to develop wind energy on public lands and deny any request to provide access to private lands for wind development within the application area.

Alternative 1R (the BLM preferred alternative) considers authorizing wind development in PCW's application area to accommodate 1,000 turbines. This alternative, a revision of PCW's original proposed action, was submitted by the applicant in response to issues raised during scoping. This alternative was developed in consideration of a comprehensive review of information pertaining to wildlife issues in the project area and would require amending the VRM decisions in the 2008 Rawlins RMP.

Alternative 2 considers authorizing wind development to accommodate 1,000 turbines in PCW's application area only north of T. 18 N. to keep development primarily within the checkerboard land ownership pattern. This alternative was developed in response to concerns regarding visual impacts to areas with high recreational values. More restrictive Greater Sage-grouse stipulations would apply to public lands than in the other alternatives. This alternative would require amending the VRM decisions in the 2008 Rawlins RMP.

Alternative 3 considers authorizing wind development to accommodate 1,000 turbines in the Chokecherry portion and only the area from the eastern half of T. 18 N., R. 88. W. to the east of the Sierra Madre portion of PCW's application area. All lands would be excluded south of T. 18. N. and the western half of T. 18. N., R. 88 W. This alternative was developed in response to concerns regarding existing VRM Class II areas as well as areas with greater wildlife concerns. This alternative would require amending the VRM decisions in the 2008 Rawlins RMP.

Alternative 4 considers no placement of WTGs on public lands within either the Chokecherry site or Sierra Madre site. This alternative, however, considers that the BLM would provide ROW grants to PCW for the public lands that would allow PCW to develop wind energy facilities on the privately-held lands. The BLM would apply required restrictions and timing stipulations to public lands for requested access points. This alternative was developed in response to the overall concerns raised with developing a wind farm on public lands and the associated impacts. This alternative would not require amending the VRM decisions in the 2008 Rawlins RMP. Volume II considered 12 additional alternatives but eliminated them from detailed study. These alternatives did not meet the purpose and need of the proposed action, or were incorporated into alternatives analyzed in detail.

The purpose of this EIS is to provide the public and decision-makers with sufficient information to understand the environmental consequences of implementing the project. A recent inventory of wilderness characteristics determined that wilderness characteristics are not present. If the analysis results in the decision to approve wind energy development, PCW may submit up to four Plans of Development (POD) for separate aspects of the project including: Turbine siting in the Chokeberry development area, turbine siting in the Sierra Madre development area, haul road development throughout the project area, and transmission lines. The site-specific PODs would be tiered to the analysis and decisions in the EIS and ROD for the CCSM wind farm project. Site-specific impacts associated with the siting/location of individual project components not analyzed in the EIS would be evaluated in subsequent NEPA analyses based on site-specific proposals within any selected alternative boundary. ROW grants for these PODs, if issued, will include site-specific terms and conditions analyzed either in the POD NEPA documents or in the CCSM project EIS. Following the public comment period, the BLM will prepare a proposed RMP Amendment/CCSM Final EIS. The BLM will respond to each substantive comment by making appropriate revisions to the document or by explaining why a comment did not warrant a change.

Before including your address, phone number, e-mail address, or other personal identifying information in your comment, you should be aware that your entire comment—including your personal identifying information—may be made publicly available at any time. While you may ask us in your comment to withhold your personal identifying information from public review, we cannot guarantee that we will be able to do so.

Authority: 40 CFR 1506.6 and 1506.10.

Donald A. Simpson,
State Director.

[FR Doc. 2011-18274 Filed 7-21-11; 8:45 am]

BILLING CODE 4310-22-P